DEPARTMENT OF JUSTICE

Office of Justice Programs

Agency Information Collection Activities: Proposed Collection; Comments Requested; Drug Court Grantee Data Collection Survey

ACTION: Notice of information collection under review; revision of a currently approved collection.

The Department of Justice, Office of Justice Programs, Drug Courts Program Office, has submitted the following information collection request for review and clearance in accordance with the Paperwork Reduction Act of 1995. This proposed information collection is published to obtain comments from the public and affected agencies. Comments are encouraged and will be accepted for “sixty days” until May 21, 2001.

Written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

If you have additional comments, suggestions, or need a copy of the proposed information collection instrument with instructions, or additional information, please contact Marilyn M. Roberts, Director Drug Courts Program Office, 202-514-6452, Office of Justice Programs, U.S. Department of Justice, 810 Seventh Street, NW., Washington, DC 20531 or via facsimile at (202) 514-6452.

Overview of This Information

(1) Type of information collection: Revision of currently approved collection.

(2) The title of the form/collection: Drug Court Grantee Data Collection Survey

(3) The agency form number, if any, and the applicable component of the Department sponsoring the collection: none. Drug Courts Program Office, Office of Justice Programs, U.S. Department of Justice.

(4) Affected public who will be asked or required to respond, as well as a brief abstract: Primary: Federal Government, State, Local or Tribal. Other: None.

This survey will assist in the national evaluation of drug courts. The data to be collected will assist in determining the effectiveness of these grants and the information will be shared with the drug court field to improve program quality.

(5) An estimate of the total number of respondents and the amount of time estimated for an average respondent to respond/reply: It is estimated that 300 respondents wil complete a .75 to 1.25 hour survey semi-annually.

(6) An estimate of the total public burden (in hours) associated with the collection: An estimate of the total public burden hours associated with the collection is 450-750 annual burden hours.

If additional information is required contact: Mrs. Brenda E. Dyer, Deputy Clearance Officer, United States Department of Justice, Information Management and Security Staff, Justice Management Division, National Place, Suite 1220, 1331 Pennsylvania Avenue, NW., Washington, DC 20530.

Dated: March 15, 2001.
Brenda E. Dyer,
Department Deputy Clearance Officer, United States Department of Justice.

[FR Doc. 01-6989 Filed 3-20-01; 8:45 am]

BILLING CODE 4410-18-M